DEPARTMENT OF THE INTERIOR

Bureau of Land Management

[31¼% to CO-956-1420-BJ-0000-241A, 25% to CO-956-1420-BJ-SUPP-241A, 6¼% to CO-956-1910-BJ-4198-241A, 6¼% to CO-956-1420-BJ-CAPD-241A, 18¾% to CO-956-1420-BJ-TRST-241A, 12½% to-CO-956-9820-BJ-CO01-241A]

Colorado: Filing of Plats of Survey

July 14, 2004.

SUMMARY: The plats of survey of the following described land will be officially filed in the Colorado State Office, Bureau of Land Management, Lakewood, Colorado, effective 10 a.m., July 14, 2004. All inquiries should be sent to the Colorado State Office, Bureau of Land Management, 2850 Youngfield Street, Lakewood, Colorado 80215-7093.

The plat representing the dependent resurveys and survey in Township 3 South, Range 87 West, Sixth Principal Meridian, Group 1246, Colorado, was accepted April 7, 2004.

The plat, of the entire record, representing the dependent resurvey and survey in Township 46 North, Range 12 East, New Mexico Principal Meridian, Group 1362, Colorado, was accepted April 13, 2004.

The plat (in 2 sheets), representing the dependent resurveys and surveys in Township 44 North, Range 7 East, New Mexico Principal Meridian, Group 1292, Colorado, was accepted May 27, 2004.

The plat, of the entire record, representing the dependent resurvey of certain mineral surveys in Suspended Township 43 North, Range 6 West, New Mexico Principal Meridian, Group 1238, Colorado, was accepted June 22, 2004.

The plat representing the dependent resurveys and surveys in Township 1 North, Range 81 West, Sixth Principal Meridian, Group 1328, Colorado, was accepted June 23, 2004.

The supplement plat amending Lot 13 to Lot 15in the SW¼SW¼ of Section 32, Township 41 North, Range 11 West, New Mexico Principal Meridian, Colorado, was accepted May 13, 2004.

The supplemental plat cancelling Tracts 37, 38, and 39, in Township 6 South, Range 95 West, Sixth Principal Meridian, Colorado, was accepted June 17, 2004. (Group 719)

The supplemental plat cancelling Tracts 37, in Township 7 South, Range 95 West, Sixth Principal Meridian, Colorado, was accepted June 17, 2004. (Group 719)

The supplemental plat cancelling Tracts 37, 39, 40, and 41, in Township 8 South, Range 96 West, Sixth Principal Meridian, Colorado, was accepted June 17, 2004. (Group 719)

These surveys and plats were requested by the Bureau of Land Management for administrative and management purposes.

The plat (in 2 sheets), representing the dependent resurveys, in Township 33 North, Range 2 West, New Mexico Principal Meridian, Group 1307, Colorado, was accepted April 20, 2004.

The plat representing the dependent resurvey, corrective dependent resurvey and survey, in Township 33 North, Range 7 West, New Mexico Principal Meridian, Group 980, Colorado, was accepted May 10, 2004.

The plat representing the corrective dependent resurvey in Township 33 North, Range 11 West, New Mexico Principal Meridian, Group 856, Colorado, was accepted May 13, 2004.

These surveys and plats were requested by the Bureau of Indian Affairs for administrative and management purposes.

The plat, of the entire record, representing the dependent resurvey and survey in Section 30, Township 27 South, Range 56 West, Sixth Principal Meridian, Group 1268, Colorado, was accepted June 3, 2004.

The plat, of the entire record, representing the dependent resurvey and survey in Section 25, Township 26 South, Range 55 West, Sixth Principal Meridian, Group 1269, Colorado, was accepted June 3, 2004.

The plat representing Amended Protraction Diagram Number 40, covering Township 1 South, Range 90 West, Sixth Principal Meridian, Colorado, was accepted June 22, 2004.

These surveys and plats were requested by the U.S. Forest Service for administrative and management purposes.

The supplemental plat portraying the location of three parcels of land acquired by the Bureau of Reclamation, in Township 5 South, Range 92 West, Sixth Principal Meridian, Colorado, was accepted May 5, 2004.

This plat was requested by the Bureau of Reclamation for administrative and management purposes.

Randy Bloom,
Acting Chief Cadastral Surveyor for Colorado.

[FR Doc. 04-16775 Filed 7-22-04; 8:45 am]

BILLING CODE 4310-JB-P